NATIONAL AERONAUTICS AND SPACE ADMINISTRATION

[Notice: 03-122]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted on or before December 1, 2003.

ADDRESSES: All comments should be addressed to Ms. Amy Williams, NASA Langley Research Center, Mail Stop 400, Hampton, VA 23681-2199.

FOR FURTHER INFORMATION CONTACT: Ms. Nancy Kaplan, NASA Reports Officer, (202) 358-1372.

Title: Evaluating the Effectiveness of the 2003-2004 NASA Science Files/Connect Program Series.

OMB Number: 2700-.

Type of review: New collection.

Need and Uses: Surveying the registrants of NASA educational programs is necessary in order to determine the programs' effectiveness.

Affected Public: State, local, or tribal government; Individuals or households; Business or other for-profit; Not-for-profit institutions.

Number of Respondents: 250.

Responses Per Respondent: 1.

Annual Responses: 250.

Hours Per Request: 15 minutes.

Annual Burden Hours: 62.5.

Frequency of Report: Randomized.

Patricia L. Dunnington,
Chief Information Officer, Office of the Administrator.

[FR Doc. 03-24789 Filed 9-29-03; 8:45 am]

BILLING CODE 7510-01-P